DEPARTMENT OF THE INTERIOR

Bureau of Land Management

[ES-930-03-1310-MSES 46350]

Proposed Reinstatement of Terminated Oil and Gas Lease, Louisiana

AGENCY: Bureau of Land Management, Interior.

ACTION: Proposed reinstatement of terminated oil and gas lease.

SUMMARY: Under the provisions of Public Law 97-451, a petition for reinstatement of oil and gas lease, MSES 46350, Jefferson Davis County, Mississippi, was timely filed and accompanied by all required rentals and royalties. No valid lease has been issued affecting the lands. The lessee has agreed to new lease terms for rental and royalties at rates of $10 per acre and 12⅔ percent. Payment of $500 in administrative fees and a $158 publication fee has been made.

FOR FURTHER INFORMATION CONTACT: Gina Goodwin, Land Law Examiner, BLM Eastern States Office, 7450 Boston Boulevard, Springfield, Virginia 22153 at (703) 440-1534.

SUPPLEMENTARY INFORMATION: The Bureau of Land Management is proposing to reinstate the lease effective the date of termination, January 1, 2002, subject to the original terms and conditions of the lease and the increased rental and royalty rates cited above. This is in accordance with section 31(d) and (e) of the Mineral Leasing Act of 1920, as amended (30 U.S.C. 188(d) and (e)).

Dated: April 24, 2003.
Walter Rewinski,
Acting Associate State Director.

[FR Doc. 03-14454 Filed 6-6-03; 8:45 am]

BILLING CODE 4310-GJ-P